DEPARTMENT OF COMMERCE

National Oceanic and Atmospheric Administration

RIN 0648-XA041

Gulf of Mexico Fishery Management Council; Public Meeting

AGENCY: National Marine Fisheries Service (NMFS), National Oceanic and Atmospheric Administration (NOAA), Commerce.

ACTION: Notice of a public meeting.

SUMMARY: The Gulf of Mexico Fishery Management Council (GMFMC) will hold a meeting of its Ecosystem Technical Committee.

DATES: The meeting will convene on Monday, March 2, 2020, from 8:30 a.m. to 5 p.m., EST. For agenda details, see SUPPLEMENTARY INFORMATION.

ADDRESSES: The meeting will be held at Gulf of Mexico Fishery Management Council Office, 4107 W. Spruce Street, Suite 200, Tampa, FL 33607; telephone: (813) 348-1630.

FOR FURTHER INFORMATION CONTACT: Dr. Natasha Mendez-Ferrer, Biologist, Gulf of Mexico Fishery Management Council; natasha.mendez@gulfcouncil.org, telephone: (813) 348-1630. The Council website is www.gulfcouncil.org, and, also has details on the meeting location, proposed agenda, webinar listen-in access, and other materials.

SUPPLEMENTARY INFORMATION: The following items are on the agenda, though agenda items may be addressed out of order (changes will be noted on the Councils' website when possible.)

Monday, March 2, 2020; 8:30 a.m.-5 p.m.

The meeting will begin with introduction of members, election of Chair and Vice Chair, and adoption of agenda. Council staff will review the committee's scope of work; followed by a presentation on NOAA's regional approach to ecosystem-based management and Mid-Atlantic recent Fishery Ecosystem Plan (FEP) efforts. The committee will hold a discussion on the regulatory authority of the Gulf Council in the context of ecosystem management; and, proposed FEP outline. Lastly, the Ecosystem Technical Committee will review any other business items, if any.

— Meeting Adjourns

The meeting will be broadcast via webinar. You may register for the listen-in access by visiting www.gulfcouncil.org and clicking on the Technical Committee meeting on the calendar. The Agenda is subject to change, and the latest version along with other meeting materials will be posted on www.gulfcouncil.org as they become available.

Although other non-emergency issues not on the agenda may come before the group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Authority: 16 U.S.C. 1801 et seq.

Dated: February 10, 2020.
Tracey L. Thompson,
Acting Deputy Director, Office of Sustainable Fisheries, National Marine Fisheries Service.

[FR Doc. 2020-02971 Filed 2-13-20; 8:45 am]

BILLING CODE 3510-22-P